DEPARTMENT OF THE INTERIOR

National Park Service

[NPS-AKRO-DENA-34487; PPAKAKROR4] [PPMPRLE1Y.LS0000]

National Park Service Alaska Region Subsistence Resource Commission Program; Notice of Public Meeting

AGENCY: National Park Service, Interior.

ACTION: Meeting notice.

SUMMARY: The National Park Service (NPS) is hereby giving notice the Denali National Park Subsistence Resource Commission (SRC) will meet as indicated below.

DATES: The Denali National Park SRC will meet via teleconference from 6:30 p.m. to 8:30 p.m. or until business is completed on Tuesday, November 8, 2022. The alternate meeting date is Thursday, November 10, 2022, from 6:30 p.m. to 8:30 p.m. or until business is completed at the same location. Teleconference participants must call (866) 810-1272 and use participant code 5366629.

FOR FURTHER INFORMATION CONTACT: For more detailed information regarding these meetings, or if you are interested in applying for SRC membership, contact Designated Federal Official Brooke Merrell, Superintendent, at (907) 683-9627, or via email at brooke_merrell@nps.gov or Amy Craver, Subsistence Coordinator, at (907) 644-3604 or via email at amy_craver@nps.gov or Eva Patton, Federal Advisory Committee Group Federal Officer, at (907) 644-3601 or via email at kim_jochum@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The NPS is holding meetings pursuant to the Federal Advisory Committee Act (5 U.S.C. appendix 1-16). The NPS SRC program is authorized under title VIII, section 808 of the Alaska National Interest Lands Conservation Act (16 U.S.C. 3118).

SRC meetings are open to the public and will have time allocated for public testimony. The public is welcome to present written or oral comments to the SRC. SRC meetings will be recorded, and meeting minutes will be available upon request from the Superintendent for public inspection approximately six weeks after the meeting.

Purpose of the Meeting: The agenda may change to accommodate SRC business. The proposed meeting agenda includes the following:

1. Call to Order—Confirm Quorum

2. Welcome and Introduction

3. Review and Adoption of Agenda

4. Superintendent's Welcome and Review of the SRC Purpose

5. Old Business—resume work not finished at the August 24, 2022, meeting

6. New Business—Review of Individual Customary and Traditional Use Determination requests.

7. Public and Other Agency Comments

8. Set Tentative Date and Location for Next SRC Meeting

9. Adjourn Meeting

SRC meeting location and date may change based on inclement weather or exceptional circumstances, including public health advisories or mandates. If the meeting date and location are changed, the Superintendent will issue a press release and use local newspapers and/or radio stations to announce the rescheduled meeting. Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Alma Ripps,
Chief, Office of Policy.

[FR Doc. 2022-21057 Filed 9-28-22; 8:45 am]

BILLING CODE 4312-52-P